DEPARTMENT OF HEALTH AND HUMAN SERVICES

Centers for Disease Control and Prevention

[60-Day-02-66]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. CDC is requesting an emergency clearance from the Office of Management and Budget (OMB) to collect data under the Public Health Security and Bioterrorism Preparedness and Response Act of 2002. Send comments to Anne O'Connor, CDC Assistant Reports Clearance Officer, 1600 Clifton Road, MS D-24, Atlanta, GA 30333. Written comments should be received within 14 days of this notice. OMB is expected to act on the request of CDC within 21 days of publication of this notice.

Proposed Project

Notification of Possession of a Select Agent—New—Office of the Director, Office of Health and Safety (OD/OHS), Centers for Disease Control and Prevention (CDC). Section 202(a) of the Public Health Security and Bioterrorism Preparedness Response Act of 2002 (Public Law 107-188) requires that all persons in possession of a Select Agent notify the Secretary of Health and Human Services by September 10, 2002.

The Secretary of Health and Human Services has designated the CDC as the agency responsible for collecting this information. CDC is specifying that facilities, rather than persons, who possess a Select Agent shall notify CDC by completing the Application for Notice of Possession of a Select Agent. For the purposes of completing this application, a facility should be considered as a single geographic site, such as a building or complex of buildings at a single mailing address. Each facility should designate a responsible facility official (RFO) to complete this form. It is the responsibility of the RFO to ensure management oversight of this notification requirement. The RFO should be either a safety officer, a senior management official of the facility, or both, who has been authorized by the facility to complete and submit this application. The RFO should not be an individual who actually possesses, uses, or transfers such agents or toxins.

In order to complete the application, the RFO will need to inventory its facility and consult with others (e.g., principal investigators) as necessary to obtain the information required for this application. The RFO must review and sign the application and will be the point of contact if CDC has questions concerning the application or other matters related to the Public Law. Facilities that do not possess a listed biological agent or toxin are required to complete the declaration of non-possession and submit the form.

Facilities that possess listed biological agents and/or toxins that are a threat to public health must submit their notification form to the Centers for Disease Control and Prevention (CDC), Office of Health and Safety, 1600 Clifton Road, MS A13, Atlanta, GA 30333. Facilities that possess listed biological agents that are deemed a threat to animal health or animal products are required to submit their form to the U.S. Department of Agriculture, Animal and Plant Health Inspection Service (APHIS), Veterinary Services, National Center for Import-Export, Products Program, 4700 Riverdale Road, Unit 40, Riverdale, MD 20737. Facilities that possess listed biological agents and/or toxins that are deemed a threat to both public health and animal health and animal products are required to submit their form to both CDC and APHIS. There is no cost to respondents except their time to complete the notification form.

Respondents | Number of Respondents | Number of responses/respondent | Avg. burden/response (in hours) | Total burden (in hours)
Facilities that do not possess listed biological agents and/or toxins | 95,400 | 1 | 10/60 | 15,900
Facilities that possess listed biological agents and/or toxins | 94,600 | 1 | 2 | 189,200
Total |  |  |  | 205,100

Dated: June 26, 2002.
Nancy E. Cheal,
Acting Associate Director for Policy, Planning and Evaluation, Centers for Disease Control and Prevention.

[FR Doc. 02-16674 Filed 7-1-02; 8:45 am]

BILLING CODE 4163-18-P